SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before August 25, 2009.

ADDRESSES: Send all comments regarding whether these information collections are necessary for the proper performance of the function of the agency, whether the burden estimates are accurate, and if there are ways to minimize the estimated burden and enhance the quality of the collection, to Andrew McConnell, Chief, Office of Financial Assistance, Small Business Administration, 409 3rd Street, SW., 8th Floor, Washington, DC 20416.

FOR FURTHER INFORMATION CONTACT: Andrew McConnell, Chief, 504 Program Branch, Office of Financial Assistance 202-205-7238 andrew.mcconnell@sba.gov, Curtis B. Rich, Management Analyst, 202-205-7030 curtis.rich@sba.gov.

SUPPLEMENTARY INFORMATION: This form is used by SBA to determine whether loan applicant meets SBA's credit and regulatory criteria. Respondents are small business concerns and Development Companies which are certified by SBA to package 504 loans.

Title: “U.S. Small Business Administration Application for Section 504 Loan.”

Description of Respondents: 504 Participants.

Form Number: 1244.

Annual Responses: 9,100.

Annual Burden: 21,210.

SUPPLEMENTARY INFORMATION: The PCLP forms collect loan information to assist the agency in carrying out its lender, portfolio and program oversight responsibilities.

Title: “PCLP Quarterly Loan Loss Reserve Report and PCLP Guarantee Requests.”

Description of Respondents: PCLP Lenders.

Form Numbers: 2233, 2234 Parts A, B, C.

Annual Responses: 1,700.

Annual Burden: 1,612.

SUPPLEMENTARY INFORMATION: This form is executed by the borrower certified development company and the loan servicing agent. The agreement is primary used to certify use of loan proceeds, appoint a servicing agent and acknowledge the imposition of various fees.

Title: “Servicing Agent Agreement.”

Description of Respondents: Certified Development Companies and SBA Borrowers.

Form Number: 1506.

Annual Responses: 8,403.

Annual Burden: 8,403.

FOR FURTHER INFORMATION CONTACT: Gail Hepler, Chief, 7(A) Loan Policy, Office of Financial Assistance 202-205-7530 gail.hepler@sba.gov, Curtis B. Rich, Management Analyst, 202-205-7030 curtis.rich@sba.gov.

SUPPLEMENTARY INFORMATION: The information collected through these forms from small business loan application as well as participating lenders will be used to determine eligibility for an America's Recovery Capitol (ARC) loan.

Title: “America's Recovery Capitol (ARC) Loan Program”

Description of Respondents: Participants eligible for the ARC loan program.

Form Numbers: 2315, 2316 Part A, B, C.

Annual Responses: 12,000.

Annual Burden: 7,070.

Jacqueline White,
Chief, Administrative Information Branch.

[FR Doc. E9-15180 Filed 6-25-09; 8:45 am]

BILLING CODE 8025-01-P